FEDERAL MARITIME COMMISSION

Ocean Transportation Intermediary License Applicants

Notice is hereby given that the following applicants have filed with the Federal Maritime Commission an application for a license as a Non-Vessel-Operating Common Carrier (NVO), and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573.

Advanced Logistics Inc. (NVO), 3301 NW 97th Avenue, Miami, FL 33172, Officers: Arturo R. Alvarez, Vice President (Qualifying Individual), Jose R. Castillo, President/Director, Application Type: QI Change.

Americargo Express Inc. (NVO & OFF), 1428 NW 82 Avenue, Doral, FL 33126, Officer: Natalia Diaz, President (Qualifying Individual), Application Type: New NVO & OFF License.

American Star Logistics, Inc. (NVO), 2021 Midwest Road, #200, Oak Brook, IL 60523, Officer: Ylli Karaqica, President (Qualifying Individual), Application Type: New NVO License.

Capito Enterprises, Inc. (NVO & OFF), 190 Ellis Road, Lake In The Hills, IL 60156, Officers: Rizalina D. Capito, President/Treasurer (Qualifying Individual), Rosette Capito, Vice President, Application Type: New NVO & OFF License.

Freight Forwarder International, Inc. (OFF), 200 Crofton Road, Building 14-A, Kenner, LA 70062, Officers: Gary J. Cheramie, President (Qualifying Individual), George Talbot, Jr., Secretary/Treasurer/CFO, Application Type: New OFF License.

GT Int'l Logistic Inc. (NVO & OFF), 863 N. Douglas Street, #100, 2nd Floor, El Segundo, CA 90245, Officers: Johnny T.C. Liu, CEO (Qualifying Individual), Yen Ting Lin, CFO, Application Type: New NVO & OFF License.

Manheim Export, Inc. (NVO & OFF), 6205 Peachtree-Dunwoody Road, Atlanta, GA 30328, Officers: Christopher S. Stephens, Vice President/General Manager (Qualifying Individual), Michael J. Langhorne, Assistant Secretary, Application Type: New NVO & OFF License.

Morais Ltd. (NVO), 216 Warren Avenue, East Providence, RI 02914, Officers: Marta Morais, Vice President (Qualifying Individual), Jorge V. Morais, President, Application Type: New NVO License.

R.H. Shipping & Chartering (USA) (NVO), 10077 Grogans Mill Road, #310, Spring, TX 77380, Officers: Janette M. Marlowe, COO (Qualifying Individual), Rudolf Hess, President, Application Type: License Transfer.

Total Global Solutions, Inc. (NVO & OFF), 4290 Bells Ferry Road #224, Suite 106, Kennesaw, GA 30144, Officers: Tomomi Hamamura, CFO/Treasurer (Qualifying Individual), Dennis R. Smith, President/CEO/Director, Application Type: Add NVOCC Service.

United Customs Services Inc. (NVO), 110 Jericho Turnpike, #201, Floral Park, NY 11001, Officers: Pailing P. Huang, President (Qualifying Individual), Daryih D. Wu, Vice President, Application Type: New NVO License.

Dated: November 5, 2010.
Karen V. Gregory,
Secretary.

[FR Doc. 2010-28423 Filed 11-9-10; 8:45 am]

BILLING CODE P